SMALL BUSINESS ADMINISTRATION

Region IX Regulatory Fairness Board; Public Federal Regulatory Enforcement Fairness Hearing

The Small Business Administration Region IX Regulatory Fairness Board and the SBA Office of the National Ombudsman will hold a public hearing on Tuesday, March 25, 2003, at 1 p.m. at the Pima Community College, 4905 East Broadway Boulevard, Tucson, AZ, 85709, to receive comments and testimony from small business owners, small government entities, and small non-profit organizations concerning regulatory enforcement and compliance actions taken by Federal agencies.

Anyone wishing to attend or to make a presentation must contact Janet Dunipace in writing or by fax, in order to be put on the agenda. Janet Dunipace, U.S. Small Business Administration, Arizona District Office, 2828 North Central Avenue, Suite 800, Phoenix, AZ 85004, phone (602) 745-7207, fax (602) 745-7210, e-mail janet.dunipace@sba.gov.

For more information, see our Web site at www.sba.gov/ombudsman.

Dated: February 26, 2003.
Michael L. Barrera,
National Ombudsman.

[FR Doc. 03-5258 Filed 3-5-03; 8:45 am]

BILLING CODE 8025-01-P